DEPARTMENT OF TRANSPORTATION

Federal Highway Administration

Notice to Extend Comment Period for an Environmental Impact Statement: St. Louis City and St. Louis County, Missouri

AGENCY: Federal Highway Administration (FHWA), DOT.

ACTION: Extend comment period for an Environmental Impact Statement.

SUMMARY: The FHWA is issuing this notice to advise the public that we are extending the comment period for an Environmental Impact Statement (EIS) for improvements on I-64 in the City of St. Louis and St. Louis County, Missouri.

FOR FURTHER INFORMATION CONTACT: Donald L. Neumann, Programs Engineer, FHWA Division Office, 209 Adams Street, Jefferson City, MO 65101; Telephone: (573) 636-7104 or Mr. Kevin Keith, Chief Engineer, Missouri Department of Transportation, P.O. Box 270, Jefferson City, MO 65102.

SUPPLEMENTARY INFORMATION: The FHWA, in cooperation with the Missouri Department of Transportation (MoDOT), prepared a draft EIS for a project that has been proposed to improve the transportation system in the City of St. Louis and St. Louis County, Missouri. The notice of availability for the New I-64 EIS (volumes 1 and 2) was published in the Federal Register on January 3, 2003. The end of the official comment period was to be February 28, 2003. The comment period was subsequently extended to April 4, 2003. Due to the request from the city of Richmond Heights for additional time to prepare comments, we are further extending the comment period to May 30, 2003. Comments or questions should be directed to the FHWA or MoDOT at the addresses provided above.

(Catalog of Federal Domestic Assistance Program Number 20.205, Highway Planning and Construction. The regulations implementing Executive Order 12372 regarding intergovernmental consultation on Federal programs and activities apply to this program.)
Issued on: April 22, 2003.
Donald L. Neumann,
Programs Engineer, Jefferson City.

[FR Doc. 03-10517 Filed 4-28-03; 8:45 am]

BILLING CODE 4910-22-M